DEPARTMENT OF COMMERCE

National Oceanic and Atmospheric Administration

[Docket No. 000204026-0026-01; I.D. 121799A]

RIN 0648-AN48

Tautog; Interstate Fishery Management Plans

AGENCY: National Marine Fisheries Service (NMFS), National Oceanic and Atmospheric Administration (NOAA), Commerce.

ACTION: Notice of determination of noncompliance; notice of declaration of a moratorium.

SUMMARY: In accordance with the Atlantic Coastal Fisheries Cooperative Management Act of 1993 (Act), 16 U.S.C. 5101 et seq., the Secretary of Commerce (Secretary) has determined that the State of Rhode Island is not in compliance with the Atlantic States Marine Fisheries Commission's (Commission) Interstate Fishery Management Plan (ISFMP) for tautog and has failed to implement measures necessary for the conservation of the fishery in question. Pursuant to the Act, a Federal moratorium on fishing for tautog within Rhode Island state waters to be effective on June 15, 2000, if Rhode Island does not come into compliance with the ISFMP for tautog by June 1, 2000, is hereby declared. The purpose of this action is to support and encourage the development, implementation, and enforcement of the Commission's ISFMPs to conserve and manage Atlantic coastal fishery resources.

DATES: The moratorium will become effective on June 15, 2000, through a separate rule unless, by June 1, 2000, the State of Rhode Island adopts and implements measures to return to compliance with the Commission's ISFMP for tautog. If the State of Rhode Island adopts and implements the measures required by the ISFMP for tautog, the Secretary will publish an appropriate announcement in the Federal Register rescinding the moratorium with respect to the State.

FOR FURTHER INFORMATION CONTACT: Richard H. Schaefer, Chief, Staff Office for Intergovernmental and Recreational Fisheries, NMFS, 301-427-2014.

SUPPLEMENTARY INFORMATION:

Background

The Act was enacted to support and encourage the development, implementation, and enforcement of the Commission's ISFMPs to conserve and manage Atlantic coastal fishery resources. Section 807 of the Act specifies that, after notification by the Commission that an Atlantic coastal state is not in compliance with an ISFMP of the Commission, the Secretary shall make a finding, no later than 30 days after receipt of the Commission's notification, on: (1) Whether the state has failed to carry out its responsibilities to implement and enforce the Commission's ISFMP; and (2) whether the measures that the state has failed to implement and enforce are necessary for the conservation of the fishery in question. In making such a finding, the Act requires the Secretary to give careful consideration to the comments of the Commission, the Atlantic coastal state found out of compliance by the Commission, and the appropriate Regional Fishery Management Councils. If the Secretary finds that the state is not in compliance with the Commission's ISFMP, and if the measures the state has failed to implement are necessary for the conservation of the fishery, the Act requires the Secretary to declare a moratorium on fishing in that fishery within the waters of the noncomplying state. The Secretary shall specify the moratorium's effective date, which must be any date within 6 months after the declaration of the moratorium.

Activities Pursuant to the Act

On November 19, 1999, the Secretary received a letter from the Commission prepared pursuant to section 806(b) of the Act. The Commission's letter stated that the State of Rhode Island's tautog regulations did not meet the provisions of the Commission's ISFMP, and, therefore, the Commission found the State of Rhode Island out of compliance with the ISFMP as described here:

Commission Findings on Tautog

The Commission found that the State of Rhode Island has not implemented and is not enforcing the Commission's ISFMP for tautog because it has failed to adopt recreational bag limits for tautog that can be effectively evaluated by the Commission as meeting the mortality reduction requirements of the ISFMP.

Under the ISFMP, states are required to implement and enforce management measures that will achieve an interim fishing mortality target of F=0.24, with an ultimate target of F=0.15.

To meet these targets, the ISFMP recommends that possession and seasonal limits be imposed which are consistent for all recreational fishing modes. Rhode Island's recreational bag limits for tautog differ between fishing modes. Upon review of Rhode Island's analysis of its management plan, the Commission's Tautog Technical Committee determined that there was insufficient quantitative data available to effectively determine whether the State's management plan met the overall mortality targets of the Commission's ISFMP. Since the mortality targets of the ISFMP are essential to the conservation of the tautog resource, and it could not be determined whether these targets would be achieved under Rhode Island's current management scheme, the Commission found that the State is not in compliance with the ISFMP.

The Commission's letter also suggested that the Secretary use his discretionary authority under the Act to delay the date of the moratorium for up to 6 months, because the State of Rhode Island is making an effort to come into compliance. The letter stated that Rhode Island is taking action to be in compliance with the Commission ISFMP for tautog by the start of the 2000 tautog season (May 2000).

Determination Regarding Compliance by the State of Rhode Island

Based on a careful analysis of all relevant information, and taking into account comments presented by the State of Rhode Island and the New England Fishery Management Council, the Secretary has determined that the State of Rhode Island is not in compliance with the Commission's ISFMP for tautog. This determination is based on Rhode Island's failure to adopt recreational bag limits for tautog that can be effectively evaluated by the Commission as meeting the mortality reduction requirements of the ISFMP. Therefore, Rhode Island must implement and enforce a recreational bag limit consistent with the ISFMP in order to come back into compliance. Further, the Secretary has determined that implementation and enforcement of a recreational bag limit that can be shown to meet the fishing mortality targets is necessary for the conservation of the resource. Although the State of Rhode Island is not in compliance with the Commission's ISFMP for tautog, because Rhode Island is making expeditious efforts to promulgate regulations that would bring the state into compliance by the start of the 2000 tautog season (May 2000), the Secretary is delaying implementation of the moratorium until June 15, 2000. If the State of Rhode Island adopts and implements measures bringing the state into compliance, the Secretary will publish an appropriate announcement in the Federal Register rescinding the moratorium with respect to the State of Rhode Island. If the State of Rhode Island has not promulgated appropriate regulations by June 1, 2000, NMFS will issue a rule implementing the moratorium effective June 15, 2000. Delaying the effective date of the moratorium until June 15, 2000, will not significantly diminish tautog conservation efforts because the recreational bag limit at issue in this action would not go into effect until October 2000, and the State currently has in place bag limits that meet the conservation goals of the ISFMP.

NMFS will notify the Governor of Rhode Island of this action. If the moratorium goes into effect, the Secretary will terminate it immediately upon receipt of notification from the Commission that the State has taken appropriate remedial actions to bring it into compliance with the ISFMP, and if the Secretary concurs with the Commission.

Dated: February 9, 2000.
Andrew A. Rosenberg,
Deputy Assistant Administrator for Fisheries, National Marine Fisheries Service.

[FR Doc. 00-3552 Filed 2-14-00; 8:45 am]

BILLING CODE 3510-22-F